FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 23, 2005.

A. Federal Reserve Bank of Richmond (A. Linwood Gill, III, Vice President) 701 East Byrd Street, Richmond, Virginia 23261-4528:

1. Fisher Woodside LP/Paul Fisher, Salisbury, North Carolina; to retain voting shares of F&M Financial Corporation, Granite Quarry, North Carolina, and thereby indirectly retain voting shares of Farmers and Merchants Bank, Granite Quarry, North Carolina.

2. Phyllis L. Fisher, Salisbury, North Carolina; Joy Kluttz Fisher, Granite Quarry, North Carolina; Donald Mitchell, Kingwood, Texas; Jacob Steven Fisher, Salisbury, North Carolina; Paula Dawn Philpot, Greenwood, South Carolina; and Irvin Henry Philpot III, Greenwood, South Carolina; to retain voting shares of F&M Financial Corporation, Granite Quarry, North Carolina, and thereby indirectly retain voting shares of Farmers and Merchants Bank, Granite Quarry, North Carolina.

B. Federal Reserve Bank of Kansas City (Donna J. Ward, Assistant Vice President) 925 Grand Avenue, Kansas City, Missouri 64198-0001:

1. Marvin J. Carter and Donald C. Stamps, both of Lawton, Oklahoma, as trustees of the 2000 Green Family Trust; to acquire voting shares of B.O.E. Bancshares, Inc., and thereby indirectly acquire voting shares of Liberty National Bank, both of Lawton, Oklahoma.

Board of Governors of the Federal Reserve System, August 3, 2005.
Robert deV. Frierson,
Deputy Secretary of the Board.

[FR Doc. 05-15676 Filed 8-8-05; 8:45 am]

BILLING CODE 6210-01-S